INTERNATIONAL TRADE COMMISSION

[Investigation Nos. 701-TA-545-547 and 731-TA-1291-1297 (Final)]

Certain Hot-Rolled Steel Flat Products From Australia, Brazil, Japan, Korea, the Netherlands, Turkey, and the United Kingdom

Determinations

On the basis of the record ¹ developed in the subject investigations, the United States International Trade Commission (“Commission”) determines, pursuant to the Tariff Act of 1930 (“the Act”), that an industry in the United States is materially injured by reason of imports of certain hot-rolled steel flat products (“hot-rolled steel”) from Australia, Brazil, Japan, Korea, the Netherlands, Turkey, and the United Kingdom, provided for in subheadings 7208.10.15, 7208.10.30, 7208.10.60, 7208.25.30, 7208.25.60, 7208.26.00, 7208.27.00, 7208.36.00, 7208.37.00, 7208.38.00, 7208.39.00, 7208.40.60, 7208.53.00, 7208.54.00, 7208.90.00, 7210.70.30, 7210.90.90, 7211.14.00, 7211.19.15, 7211.19.20, 7211.19.30, 7211.19.45, 7211.19.60, 7211.19.75, 7211.90.00, 7212.40.10, 7212.40.50, 7212.50.00, 7214.91.00, 7214.99.00, 7215.90.50, 7225.11.00, 7225.19.00, 7225.30.30, 7225.30.70, 7225.40.70, 7225.99.00, 7226.11.10, 7226.11.90, 7226.19.10, 7226.19.90, 7226.91.50, 7226.91.70, 7226.91.80, 7226.99.01, and 7228.60.60 of the Harmonized Tariff Schedule of the United States, that have been found by the Department of Commerce (“Commerce”) to be sold in the United States at less than fair value (“LTFV”), and that have been found by Commerce to be subsidized by the governments of Brazil and Korea.² The Commission further finds that imports of hot-rolled steel that have been found by Commerce to be subsidized by the government of Turkey are negligible. The Commission also finds that imports subject to Commerce's affirmative critical circumstances determinations are not likely to undermine seriously the remedial effect of the countervailing and antidumping duty orders on hot-rolled steel from Brazil and the antidumping duty order on imports from Japan.

¹ The record is defined in sec. 207.2(f) of the Commission's Rules of Practice and Procedure (19 CFR 207.2(f)).

² Chairman Irving A. Williamson, Vice Chairman David S. Johanson, and Commissioners Dean A. Pinkert, Meredith M. Broadbent, and Rhonda K. Schmidtlein voted in the affirmative with respect to imports from Australia, Brazil, Japan, Korea, the Netherlands, and the United Kingdom and with respect to imports sold at less than fair value from Turkey. Commissioner F. Scott Kieff voted in the affirmative with respect to imports from Brazil, Japan, Korea, the Netherlands, and the United Kingdom and with respect to imports sold at less than fair value from Turkey; he voted in the negative with respect to imports from Australia. All six Commissioners found that imports of these products from Turkey that Commerce has determined are subsidized by the government of Turkey are negligible.

Background

The Commission, pursuant to sections 705(b) and 735(b) of the Act (19 U.S.C. 1671d(b) and 19 U.S.C. 1673d(b)), instituted these investigations effective August 11, 2015, following receipt of a petition filed with the Commission and Commerce by AK Steel Corporation (West Chester, Ohio), ArcelorMittal USA, LLC (Chicago, Illinois), Nucor Corporation (Charlotte, North Carolina), SSAB Enterprises, LLC (Lisle, Illinois), Steel Dynamics, Inc. (Fort Wayne, Indiana), and United States Steel Corporation (Pittsburgh, Pennsylvania). The final phase of the investigations was scheduled by the Commission following notification of preliminary determinations by Commerce that imports of hot-rolled steel from Brazil ³ were subsidized within the meaning of section 703(b) of the Act (19 U.S.C. 1671b(b)) and that imports from Australia, Brazil, Japan, Korea, the Netherlands, Turkey, and the United Kingdom were dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on April 15, 2016 (81 FR 22310). The hearing was held in Washington, DC, on August 4, 2016, and all persons who requested the opportunity were permitted to appear in person or by counsel.

³ The Commission also scheduled final-phase countervailing duty investigations concerning hot-rolled steel from Korea and Turkey, although Commerce preliminarily determined that de minimis countervailable subsidies were being provided to hot-rolled steel producers and exporters from Korea and Turkey.

The Commission made these determinations pursuant to sections 705(b) and 735(b) of the Act (19 U.S.C. 1671d(b) and 19 U.S.C. 1673d(b)). It completed and filed its determinations in these investigations on September 26, 2016. The views of the Commission are contained in USITC Publication 4638 (September 2016), entitled Hot-Rolled Steel Flat Products from Australia, Brazil, Japan, Korea, the Netherlands, Turkey, and the United Kingdom (Investigation Nos. 701-TA-545-547 and 731-TA-1291-1297 (Final)).

By order of the Commission.
Issued: September 26, 2016.
Katherine Hiner,
Acting Supervisory Attorney.

[FR Doc. 2016-23572 Filed 9-28-16; 8:45 am]

BILLING CODE 7020-02-P